FEDERAL ENERGY REGULATORY COMMISSION

[Docket No. CP02-427-000]

Honeoye Storage Corporation; Notice of Application

August 30, 2002.

Take notice that on August 20, 2002, Honeoye Storage Corporation (Honeoye), c/o HALLC, 55 Union Street, 4th Floor, Boston, Massachusetts 02108, filed an application in the above captioned docket seeking a certificate of public convenience and necessity and related authorizations pursuant to Section 7 of the Natural Gas Act (NGA), as amended, and the Commission's Rules and Regulations thereunder. Honeoye's application requests that the Commission issue an order authorizing Honeoye to make a well modification and increase the Maximum Allowable Operating Pressure (MAOP) of its compressor station and field gathering system as described in the application. This filing is available for review at the Commission in the Public Reference Room or may be viewed on the Commission's Web site at http://www.ferc.gov using the “FERRIS” link. Enter the docket number excluding the last three digits in the docket number field to access the document. For Assistance, call (202) 502-8222 or for TTY, (202) 208-1659. Any questions regarding this application should be directed to Richard A. Norman, Vice-President, Honeoye Storage Corporation, c/o EHALLC, 55 Union Street, 4th Floor, Boston, MA 02108 (617) 367-0032.

Honeoye's application states that it does not seek to increase the existing certificated storage capacity or injection/withdrawal deliverability of its facility. Honeoye also indicated that the proposed activities will improve operational efficiency of its storage reservoir located in Ontario County, New York within existing certificated limits. Honeoye asserts that while it has met all of its service obligations, it is unable to completely fill the storage reservoir during the injection cycle to its certificated capacity because of limits on the existing MAOP. In addition, Honeoye states that it has experienced a decline in deliverability during late stages of withdrawal from the Honeoye facility because of the installation of smaller casing/tubing sizes in certain injection/withdrawal wells.

Consequently, Honeoye proposes to increase the MAOP of its compressor station and field gathering system from its presently authorized limit of 1045 psia to 1322 psia to improve injection rates during late stages of injection. Honeoye further proposes to laterally extend the existing Roberts #3 injection/ withdrawal well in order to enhance deliverability during the withdrawal season. Honeoye states that these modifications will enhance the injection and withdrawal capability of the Honeoye facility while permitting Honeoye to remain within its certificated limitation of Maximum Quantity Stored of 6,718.4 MDth and Maximum Daily Withdrawal Quantity of 55,880 MDth/d. The cost of the proposed project is $548,500, which will be financed with funds on hand, funds generated internally, borrowing under revolving credit agreements, or short-term financing which will be rolled into permanent financing.

Honeoye states that all proposed work will be completed on or beneath land and existing right of ways and leases which it now owns, and therefore, Honeoye indicates that this application does not require the exercise of the right of eminent domain.

There are two ways to become involved in the Commission's review of this project. First any person wishing to obtain legal status by becoming a party to the proceedings for this project should, on or before September 23, 2002, file with the Federal Energy Regulatory Commission, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceedings. Only parties to the proceedings can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See 18 CFR 385.2001(a)(1)(iii) and the instructions on the Commission's Web site under the “e-Filing” link.

If the Commission decides to set the application for a formal hearing before an Administrative Law Judge the Commission will issue another notice describing that process. At the end of the Commission's review process, a final Commission order approving or denying a certificate will be issued.

Magalie R. Salas,
Secretary.

[FR Doc. 02-22705 Filed 9-5-02; 8:45 am]

BILLING CODE 6717-01-P